SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before November 20, 2006.

ADDRESSES: Send all comments regarding whether these information collections are necessary for the proper performance of the function of the agency, whether the burden estimates are accurate, and if there are ways to minimize the estimated burden and enhance the quality of the collections, to Gail Hepler, Chief 7a Loan Policy Branch, Office of Financial Assistance, Small Business Administration, 409 3rd Street, SW., Suite 8300, Washington, DC 20416.

FOR FURTHER INFORMATION CONTACT: Gail Hepler, Chief 7a Loan Policy Branch, Office of Financial Assistance 202-205-7530 gail.hepler@sba.gov or Curtis B. Rich, Management Analyst, 202-205-7030 curtis.rich@sba.gov.

SUPPLEMENTARY INFORMATION:

Title: “Gulf Coast Relief Financing Pilot Information Collection”.

Description of Respondents: Small Business devastated by Hurricanes Katrina and Rita.

Form Nos: 2276 A/B/C, 2281, 2282.

Annual Responses: 500.

Annual Burden: 375.

Jacqueline White,
Chief, Administrative Information Branch.

[FR Doc. 06-7946 Filed 9-19-06; 8:45 am]

BILLING CODE 8025-01-P